DEPARTMENT OF ENERGY

Federal Energy Regulatory Commission

Combined Notice of Filings

Take notice that the Commission has received the following Natural Gas Pipeline Rate and Refund Report filings:

Docket Number: PR20-19-001.

Applicants: NET Mexico Pipeline Partners, LLC.

Description: Tariff filing per 284.123(b),(e)+(g): Revised NGPA Section 311 Statement of Operating Conditions to be effective 12/30/2019.

Filed Date: 2/13/2020.

Accession Number: 202002135032.

Comments Due: 5 p.m. ET 3/5/2020.

284.123(g) Protests Due: 5 p.m. ET3/5/2020.

Docket Number: RP20-519-000.

Applicants: Northern Natural Gas Company.

Description: Northern Natural Gas submits report of the penalty and daily delivery variance charge (DDVC) revenues that have been credited to shippers under RP20-519.

Filed Date: 2/13/20.

Accession Number: 20200213-5078.

Comments Due: 5 p.m. ET 2/25/20.

Docket Number: RP20-520-000.

Applicants: Kern River Gas Transmission Company.

Description: § 4(d) Rate Filing: 2020 February Negotiated Rates to be effective 2/15/2020.

Filed Date: 2/14/20.

Accession Number: 20200214-5039.

Comments Due: 5 p.m. ET 2/26/20.

Docket Number: RP20-523-000.

Applicants: Southwest Gas Transmission Company, A Limited Partnership.

Description: § 4(d) Rate Filing: Cover Page Contact Information to be effective 3/19/2020.

Filed Date: 2/14/20.

Accession Number: 20200214-5105.

Comments Due: 5 p.m. ET 2/26/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2020.
Nathaniel J. Davis, Sr.,
Deputy Secretary.

[FR Doc. 2020-03567 Filed 2-21-20; 8:45 am]

BILLING CODE 6717-01-P